DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of five individuals whose property and interests in property have been blocked pursuant to the Foreign Narcotics Kingpin Designation Act (“Kingpin Act”) (21 U.S.C. 1901-1908, 8 U.S.C. 1182). Additionally, OFAC is publishing additions to the identifying information for seven entities previously designated pursuant to the Kingpin Act.

DATES: The designation by the Director of OFAC of the five individuals identified in this notice pursuant to section 805(b) of the Kingpin Act is effective on August 22, 2013.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On August 22, 2013, the Director of OFAC designated the following five individuals whose property and interests in property are blocked pursuant to section 805(b) of the Kingpin Act.

1. PARRA SANCHEZ, Mario; DOB 11 Nov 1970; POB Culiacan, Sinaloa, Mexico; C.U.R.P. PASM701111HSLRNR07 (Mexico) (individual) [SDNTK] (Linked To: BUENOS AIRES SERVICIOS, S.A. DE C.V.; Linked To: ESTACIONES DE SERVICIOS CANARIAS, S.A. DE C.V.; Linked To: GASODIESEL Y SERVICIOS ANCONA, S.A. DE C.V.; Linked To: GASOLINERA ALAMOS COUNTRY, S.A. DE C.V.; Linked To: GASOLINERA Y SERVICIOS VILLABONITA, S.A. DE C.V.; Linked To: PETROBARRANCOS, S.A. DE C.V.; Linked To: SERVICIOS CHULAVISTA, S.A. DE C.V.).

2. SOLIS AVILES, Angello de Jesus, Calle Camino Los Lagos No. 4070-A, Fraccionamiento Centenario, Culiacan, Sinaloa, Mexico; DOB 23 Oct 1985; POB Escuinapa, Sinaloa, Mexico; alt. POB Culiacan, Sinaloa, Mexico; C.U.R.P. SOAA851023HSLLVN00 (Mexico) (individual) [SDNTK] (Linked To: BUENOS AIRES SERVICIOS, S.A. DE C.V.; Linked To: ESTACIONES DE SERVICIOS CANARIAS, S.A. DE C.V.; Linked To: GASODIESEL Y SERVICIOS ANCONA, S.A. DE C.V.; Linked To: GASOLINERA ALAMOS COUNTRY, S.A. DE C.V.; Linked To: GASOLINERA Y SERVICIOS VILLABONITA, S.A. DE C.V.; Linked To: PETROBARRANCOS, S.A. DE C.V.; Linked To: SERVICIOS CHULAVISTA, S.A. DE C.V.).

3. VALDEZ RODRIGUEZ, Manuel Arturo; DOB 15 Dec 1985; POB Culiacan, Sinaloa, Mexico; C.U.R.P. VARM851215HSLLDN09 (Mexico) (individual) [SDNTK] (Linked To: BUENOS AIRES SERVICIOS, S.A. DE C.V.; Linked To: ESTACIONES DE SERVICIOS CANARIAS, S.A. DE C.V.; Linked To: GASODIESEL Y SERVICIOS ANCONA, S.A. DE C.V.; Linked To: GASOLINERA ALAMOS COUNTRY, S.A. DE C.V.; Linked To: GASOLINERA Y SERVICIOS VILLABONITA, S.A. DE C.V.; Linked To: PETROBARRANCOS, S.A. DE C.V.; Linked To: SERVICIOS CHULAVISTA, S.A. DE C.V.).

4. VALENZUELA VALENZUELA, Vanessa (a.k.a. DE CORTEZ, Vanessa); DOB 16 Nov 1985; POB Culiacan, Sinaloa, Mexico; C.U.R.P. VAVV851116MSLLLN05 (Mexico) (individual) [SDNTK] (Linked To: BUENOS AIRES SERVICIOS, S.A. DE C.V.; Linked To: ESTACIONES DE SERVICIOS CANARIAS, S.A. DE C.V.; Linked To: GASODIESEL Y SERVICIOS ANCONA, S.A. DE C.V.; Linked To: GASOLINERA ALAMOS COUNTRY, S.A. DE C.V.; Linked To: GASOLINERA Y SERVICIOS VILLABONITA, S.A. DE C.V.; Linked To: PETROBARRANCOS, S.A. DE C.V.).

5. VILLEGAS LOERA, Juan Carlos, Calle Golfo de California No. 1635, Colonia Nuevo Culiacan, Culiacan, Sinaloa, Mexico; DOB 11 Apr 1958; POB Culiacan, Sinaloa, Mexico; C.U.R.P. VILJ580411HSLLRN09 (Mexico) (individual) [SDNTK] (Linked To: BUENOS AIRES SERVICIOS, S.A. DE C.V.; Linked To: ESTACIONES DE SERVICIOS CANARIAS, S.A. DE C.V.; Linked To: GASODIESEL Y SERVICIOS ANCONA, S.A. DE C.V.; Linked To: GASOLINERA ALAMOS COUNTRY, S.A. DE C.V.; Linked To: GASOLINERA Y SERVICIOS VILLABONITA, S.A. DE C.V.; Linked To: PETROBARRANCOS, S.A. DE C.V.; Linked To: SERVICIOS CHULAVISTA, S.A. DE C.V.).

Additionally, OFAC is publishing additions to the identifying information for the following seven entities previously designated pursuant to the Kingpin Act.

1. BUENOS AIRES SERVICIOS, S.A. DE C.V., Blvd. Guillermo Batiz Paredes No. 1100, Col. Buenos Aires, Culiacan, Sinaloa C.P. 80199, Mexico; R.F.C. BAS-960417-PY6 (Mexico) [SDNTK].

2. ESTACIONES DE SERVICIOS CANARIAS, S.A. DE C.V., Blvd. Enrique Felix Castro No. 1029, Col. Desarrollo Urbano Tres Rios, Culiacan, Sinaloa C.P. 80020, Mexico; R.F.C. ESC-100224-2J9 (Mexico) [SDNTK].

3. GASODIESEL Y SERVICIOS ANCONA, S.A. DE C.V., Manuel J. Clouthier No. 1800, Col. Libertad, Culiacan, Sinaloa C.P.80180, Mexico; R.F.C. GSA-100223-M92 (Mexico) [SDNTK].

4. GASOLINERA ALAMOS COUNTRY, S.A. DE C.V., Blvd. Pedro Infante No. 3050, Col. Recursos Hidraulicos, Culiacan, Sinaloa C.P. 80100, Mexico; R.F.C. GAC-100224-GDA (Mexico) [SDNTK].

5. GASOLINERA Y SERVICIOS VILLABONITA, S.A. DE C.V., Av. Alvaro Obregon No. 6040, Col. Villa Bonita, Culiacan, Sinaloa C.P. 80000, Mexico; R.F.C. GSV-100224-773 (Mexico) [SDNTK].

6. PETROBARRANCOS, S.A. DE C.V., Av. Benjamin Hill No. 5602, Col. Industrial el Palmito, Culiacan, Sinaloa C.P. 80160, Mexico; R.F.C. PET-990309-G64 (Mexico) [SDNTK].

7. SERVICIOS CHULAVISTA, S.A. DE C.V., Blvd. Las Torres No. 2622 Pte., Fracc. Prados del Sol, Culiacan, Sinaloa C.P. 80197, Mexico; Calzada Las Torres S/N, Col. Prados del Sol Etapa 1, Culiacan, Sinaloa, Mexico; R.F.C. SCU-070904-T25 (Mexico) [SDNTK].

The listings for these seven entities now appear as follows:

1. BUENOS AIRES SERVICIOS, S.A. DE C.V. (n.k.a. GASOLINERA MULTILOMAS, S.A. DE C.V.), Blvd. Guillermo Batiz Paredes No. 1100, Col. Buenos Aires, Culiacan, Sinaloa C.P. 80199, Mexico; R.F.C. BAS-960417-PY6 (Mexico) [SDNTK].

2. ESTACIONES DE SERVICIOS CANARIAS, S.A. DE C.V. (n.k.a. COMBUSERVICIOS LOS TRES RIOS, S.A. DE C.V.), Blvd. Enrique Felix Castro No. 1029, Col. Desarrollo Urbano Tres Rios, Culiacan, Sinaloa C.P. 80020, Mexico; R.F.C. ESC-100224-2J9 (Mexico) [SDNTK].

3. GASODIESEL Y SERVICIOS ANCONA, S.A. DE C.V. (n.k.a. GASOLINERA LA CANADA, S.A. DE C.V.), Manuel J. Clouthier No. 1800, Col. Libertad, Culiacan, Sinaloa C.P.80180, Mexico; R.F.C. GSA-100223-M92 (Mexico) [SDNTK].

4. GASOLINERA ALAMOS COUNTRY, S.A. DE C.V. (n.k.a. GASOLINERA RECURSOS HIDRAULICOS, S.A. DE C.V.), Blvd. Pedro Infante No. 3050, Col. Recursos Hidraulicos, Culiacan, Sinaloa C.P. 80100, Mexico; R.F.C. GAC-100224-GDA (Mexico) [SDNTK].

5. GASOLINERA Y SERVICIOS VILLABONITA, S.A. DE C.V. (n.k.a. GASOLINERAS LA VILLA, S.A. DE C.V.), Av. Alvaro Obregon No. 6040, Col. Villa Bonita, Culiacan, Sinaloa C.P. 80000, Mexico; R.F.C. GSV-100224-773 (Mexico) [SDNTK].

6. PETROBARRANCOS, S.A. DE C.V. (n.k.a. SERVICIOS Y GASOLINERAS BARRANCOS, S.A. DE C.V.), Av. Benjamin Hill No. 5602, Col. Industrial el Palmito, Culiacan, Sinaloa C.P. 80160, Mexico; R.F.C. PET-990309-G64 (Mexico) [SDNTK].

7. SERVICIOS CHULAVISTA, S.A. DE C.V. (n.k.a. GASOLINERA EL CRUCERO LAS TORRES, S.A. DE C.V.), Blvd. Las Torres No. 2622 Pte., Fracc. Prados del Sol, Culiacan, Sinaloa C.P. 80197, Mexico; Calzada Las Torres S/N, Col. Prados del Sol Etapa 1, Culiacan, Sinaloa, Mexico; R.F.C. SCU-070904-T25 (Mexico) [SDNTK].

Dated: August 22, 2013.
Barbara C. Hammerle,
Acting Director, Office of Foreign Assets Control.

[FR Doc. 2013-20983 Filed 8-27-13; 8:45 am]

BILLING CODE 4810-AL-P